DEPARTMENT OF JUSTICE

[Docket No. ODAG 155]

Notice of Federal Advisory Committee Meeting

AGENCY: Department of Justice.

ACTION: Notice of Federal Advisory Committee Meeting.

SUMMARY: This notice announces a forthcoming public meeting of the National Commission on Forensic Science.

DATES: The meeting will be held on August 10, 2015 from 12:00 p.m. to 5:00 p.m. and August 11, 2015 from 9:00 a.m. to 5:00 p.m. Online registration for the meeting must be completed on or before 5:00 p.m. (EST) August 3, 2015. Electronic comments on any draft work products will be accepted through the electronic Federal Docket Management System (FDMS) at www.regulations.gov for a thirty day public comment period.

ADDRESSES: House of Sweden: 2900 K Street NW., Washington, DC 20007.

FOR FURTHER INFORMATION CONTACT: Andrew J. Bruck, Senior Counsel to the Deputy Attorney General and Designated Federal Official, 950 Pennsylvania Avenue NW., Washington, DC 20530, by email at Andrew.J.Bruck@usdoj.gov by phone at (202) 305-3481.

SUPPLEMENTARY INFORMATION:

Agenda: On August 10, the Commission will receive an overview of ethics issues in their roles as Special Government Employees. The Commission will receive a briefing on issues related to proficiency testing and receive status reports from the Subcommittees on Bylaws and Accreditation and Proficiency Testing. The public comment period will begin at 5:00 p.m. On August 11, the Commission will receive status reports from the Subcommittees on Scientific Inquiry and Research, Interim Solutions, Human Factors, Reporting and Testimony, Medicolegal Death Investigation, and Training on Science and Law. The Commission will also receive a briefing from a representative from the Netherlands Register of Court Experts. Note: Agenda items, including designation of presentation dates are subject to change. A final agenda will be posted to the Commission's Web site in advance of the meeting.

Procedures: Meeting materials, including work products, will be made available on the Commission's Web site: http://www.justice.gov/ncfs. The meeting will be webcast at: http://stream.sparkstreetdigital.com/player-ce.html?id=doj-aug10. The meeting will also be open to the public. Seating in the meeting room is limited and will be available on a first-come, first-served basis. All persons who are interested in being on-site for the meeting must register on-line by clicking the registration link found at: http://www.justice.gov/ncfs/meetings#s7.

Members of the public may present oral comments on issues pending before the Commission. Those individuals interested in making oral comments should indicate their intent through the on-line registration form and time will be allocated on a first-come, first-served basis. Time allotted for an individual's comment period will be limited to no more than 3 minutes. If the number of registrants requesting to speak is greater than can be reasonably accommodated during the scheduled public comment periods, written comments can be submitted through www.regulations.gov in lieu of oral comments.

Posting of Public Comments: To ensure proper handling of comments, please reference “Docket No. ODAG 155” on all electronic and written correspondence. The Department encourages all comments on subcommittee work products be submitted electronically through www.regulations.gov using the electronic comment form provided on that site. Paper comments that duplicate the electronic submission are not necessary as all comments submitted to www.regulations.gov will be posted for public review and are part of the official docket record.

In accordance with the Federal Records Act, please note that all comments received are considered part of the public record, and shall be made available for public inspection online at http://www.regulations.gov. The comments to be posted may include personally identifiable information (such as your name, address, etc.) and confidential business information voluntarily submitted by the commenter.

You are not required to submit personal identifying information in order to comment on this meeting. Nevertheless, if you want to submit personally identifiable information (such as your name, address, etc.) as part of your comment, but do not want it to be made available for public inspection and posted online, you must include the phrase “PERSONALLY IDENTIFIABLE INFORMATION” in the first paragraph of your comment. You must also place all the personally identifiable information you do not want made available for public inspection or posted online in the first paragraph of your comment and identify what information you want redacted.

If you want to submit confidential business information as part of your comment, but do not want it to be made available for public inspection and posted online, you must include the phrase “CONFIDENTIAL BUSINESS INFORMATION” in the first paragraph of your comment. You must also prominently identify confidential business information to be redacted within the comment. If a comment has so much confidential business information that it cannot be effectively redacted, all or part of that comment may not be made available for public inspection or posted online.

Personally identifiable information and confidential business information identified and located as set forth above will be redacted and the comment, in redacted form, will be made available for public inspection and posted on http://www.regulations.gov.

The Department of Justice welcomes the attendance of the public at its advisory committee meetings and will make every effort to accommodate persons with physical disabilities or special needs. If you require special accommodations, please indicate your requirements on the online registration form.

Dated: July 1, 2015.
Andrew J. Bruck,
Designated Federal Official, National Commission on Forensic Science.

[FR Doc. 2015-16634 Filed 7-6-15; 8:45 am]

BILLING CODE 4410-18-P